DEPARTMENT OF ENERGY

Federal Energy Regulatory Commission

[Docket No. RP04-195-000]

Columbia Gas Transmission Corporation; Notice of Proposed Changes in FERC Gas Tariff

March 4, 2004.

Take notice that on March 1, 2004, Columbia Gas Transmission Corporation (Columbia) tendered for filing as part of its FERC Gas Tariff, Second Revised Volume No. 1, the following revised tariff sheets with a proposed effective date of April 1, 2004:

Sixty-ninth Revised Sheet No. 25

Sixty-ninth Revised Sheet No. 26

Sixty-ninth Revised Sheet No. 27

Fifty-eighth Revised Sheet No. 28

Nineteenth Revised Sheet No. 31

Columbia states that these revised tariff sheets are filed pursuant to section 45, Electric Power Costs Adjustment (EPCA), of the General Terms and Conditions of Columbia's Tariff. Columbia states that section 45.1 allows Columbia to recover electric power costs, including carrying charges, incurred for compression of natural gas by means of various Transportation EPCA Rates and an LNG EPCA Rate, each of which shall be comprised of a Current EPCA Rate and an EPCA Surcharge.

Columbia states that copies of its filing have been mailed to all firm customers, interruptible customers, and affected State commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-524 Filed 3-10-04; 8:45 am]

BILLING CODE 6717-01-P